FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue, NW, Washington DC 20551-0001, not later than December 4, 2024.

A. Federal Reserve Bank of Chicago (Colette A. Fried, Assistant Vice President) 230 South LaSalle Street, Chicago, Illinois 60690-1414. Comments can also be sent electronically to Comments.applications@chi.frb.org:

1. Kathryn Paige Duncan, Lincoln, Nebraska; to acquire voting shares of Bank Iowa Corporation, and thereby indirectly acquire voting shares of Bank Iowa, both of West Des Moines, Iowa.

2. Louis James Schweigert, Cuba City, Wisconsin; to acquire voting shares of BSB Community Bancorporation, Inc. and thereby indirectly acquire voting shares of Benton State Bank, both of Benton, Wisconsin.

B. Federal Reserve Bank of St. Louis (Holly A. Rieser, Senior Manager) P.O. Box 442, St. Louis, Missouri 63166-2034. Comments can also be sent electronically to Comments.applications@stls.frb.org:

1. The Bonnie Copp Wyatt Revocable Trust, Bonnie Copp Wyatt, as trustee; the Hayden Noel Wyatt 2019 Trust, Hayden Noel Wyatt, individually and as trustee; and the Sanders Lee Wyatt 2019 Trust, Sanders Lee Wyatt individually and as trustee, all of Melbourne, Arkansas; to join the Wyatt Family Control Group, a group acting in concert, to retain voting shares of Wyatt Bancshares, Inc., and thereby indirectly retain voting shares of First National Bank of Izard County, both of Calico Rock, Arkansas.

C. Federal Reserve Bank of Minneapolis (Mark Rauzi, Vice President), 90 Hennepinn Avenue, Minneapolis, Minnesota 55480-0291. Comments can also be sent electronically to MA@mpls.frb.org:

1. Gale M. Hoese, Glencoe, Minnesota; to retain voting shares of Redwood Financial, Inc., Redwood Falls, Minnesota, and thereby indirectly retain voting shares of HomeTown Bank, Carver, Minnesota.

2. Frederick Hegerfeld, individually and as co-trustee of the Fred and Laura Hegerfeld Trust (FL Trust), both of Elkton, South Dakota; to acquire voting shares of Elkton Holding Company (Holding Company), and thereby indirectly acquire voting shares of BankStar Financial (Bank), both of Elkton, South Dakota.

In addition, the Charles Hegerfeld Living Trust, Charles Hegerfeld, as trustee, the FL Trust, Frederick Hegerfeld and Laura Hegerfeld as co-trustees, and the Toni M. Hegerfeld Living Trust, Toni M. Hegerfeld as trustee, all of Elkton, South Dakota; Amanda Lauer, Jackson Hegerfeld, and Mary Harvey, all of Brookings, South Dakota; Katie Kielman, Elizabeth Hegerfeld, and Patricia Hegerfeld, all of Sioux Falls, South Dakota; Megan Hammond, Aurora, South Dakota; Rebecca Jurgens, Avon, South Dakota; Rachel Hegerfeld, Omaha, Nebraska; Anna Marie Erickson, Lakeville, Minnesota; and Susan Davis, Anchorage, Alaska; to join the Hegerfeld Family Group, a group acting in concert, to retain voting shares of Holding Company, and thereby indirectly retain voting shares of Bank. Frederick Hegerfeld and Charles Hegerfeld were previously permitted by the Federal Reserve System to join the Hegerfeld Family Group.

D. Federal Reserve Bank of Dallas (Karen Smith, Director, Mergers & Acquisitions) 2200 North Pearl Street, Dallas, Texas 75201-2272. Comments can also be sent electronically to Comments.applications@dal.frb.org:

1. Mesa Loan Company of Athens, L.P. (Jeff Austin, III, limited partner), Briarbranch, L.L.C. (as general partner of Mesa Loan Company of Athens L.P.), Martin J. Heines (individually for his own account and as a member of Briarbranch, L.L.C.), and Jennifer Leigh Neill Swinnea, all of Tyler, Texas; JMC General Partner, L.L.C., Jeff Austin, III, member (as general partner of The Opal Group, LP) and Herbert P. Riley Irrevocable Trust (Jeff Austin, III, trustee), both of Jacksonville, Texas; Elizabeth Blynn Austin Walsh, Emily Anne Austin, and Austin Kyle Neill, all of Dallas, Texas; Mary Margaret Austin, Nicholas Austin Vann, and AnnieLaurie Noelle Vann, all of Longmont, Colorado; Carole Leigh Austin Mattson, James Harvey Mattson, Andrew James Mattson, and Lauren Leigh Mattson, all of Littleton, Colorado; Michael Austin Neill (as trustee or owner of various family trusts and companies), MAN Legacy, Ltd., MAN Legacy Trust, Michael Austin Neil, trustee (as general partner of MAN Legacy, Ltd.), and Jennifer Leigh Neill, all of Athens, Texas; Jane Austin Chapman 2010 Trust (as a member of Jane Austin Chapman Management Company, L.C.), Frankston, Texas, Michael Austin Neill and Kathryn Neill Woods, Fort Collins, Colorado, co-trustees; Jane Austin Chapman Children's Insurance Trust (as a shareholder and as a member of Jane Austin Chapman Management Company, L.C.), Frankston, Texas, Michael Austin Neill, trustee; Jane Austin Chapman 2012 Trust, Frankston, Texas, Michael Austin Neill and Kathryn Neill Woods, co-trustees; and Kathryn Neill Woods (as trustee or owner of various family trusts and companies), Woods Legacy L.P. (Kathryn Neill Woods, limited partner), AKA Management, LLC (as general partner of Woods Legacy L.P.), Abby Shea Woods, and Aubrey Kate Woods, all of Fort Collins, Colorado; to join the Austin/Chapman Family Control Group, a group acting in concert, to retain voting shares of Austin Bancorp, Inc., and thereby indirectly retain voting shares of Austin Bank, Texas National Association, both of Jacksonville, Texas.

2. Mesa Loan Company of Athens, L.P. (Jeff Austin, III, limited partner), Briarbranch, L.L.C. (as general partner of Mesa Loan Company of Athens L.P.), Martin J. Heines (as a member of Briarbranch, L.L.C.); JMC General Partner, L.L.C. Jeff Austin, III, member (as general partner of The Opal Group, LP), Jacksonville, Texas; Elizabeth Blynn Austin Walsh, Dallas, Texas; Mary Margaret Austin, Longmont, Colorado; Carole Leigh Austin Mattson, Andrew James Mattson, and Lauren Leigh Mattson, all of Littleton, Colorado; Michael Austin Neill (as trustee or owner of various family trusts and companies), MAN Legacy, Ltd., and MAN Legacy Trust, Michael Austin Neil, trustee (as general partner of MAN Legacy, Ltd.), all of Athens, Texas; Kathryn Neill Woods (as trustee or owner of various family trusts and companies), Woods Legacy L.P. (Kathryn Neill Woods, limited partner), and AKA Management, LLC (as general partner of Woods Legacy L.P.), all of Fort Collins, Colorado; Jane Austin Chapman 2010 Trust (as a member of Jane Austin Chapman Management Company, L.C.), Frankston, Texas, Michael Austin Neill and Kathryn Neill Woods, Fort Collins, Colorado, co-trustees; Jane Austin Chapman Children's Insurance Trust (as a shareholder and as a member of Jane Austin Chapman Management Company, L.C.), Frankston, Texas, Michael Austin Neill, trustee; and Jane Austin Chapman 2012 Trust, Frankston, Texas, Michael Austin Neill and Kathryn Neill Woods, co-trustees; to join the Austin/Chapman Family Control Group, a group acting in concert, to retain voting shares of Capital Bancorp, Inc., Jacinto City, Texas, and thereby indirectly retain voting shares of Capital Bank, Houston, Texas.

3. Elizabeth Blynn Austin Walsh and Emily Anne Austin, both of Dallas, Texas; Mary Margaret Austin, Longmont, Colorado; Carole Leigh Austin Mattson, Littleton, Colorado; Michael Austin Neill (as trustee or owner of various family trusts and companies) and MAN Legacy Trust, Michael Austin Neill, as trustee (as general partner of MAN Legacy, Ltd.), both of Athens, Texas; Kathryn Neill Woods (as trustee or owner of various family trusts and companies), Woods Legacy LP (Kathryn Neill Woods, limited partner), and AKA Management, LLC (as general partner of Woods Legacy LP), all of Fort Collins, Colorado; Jane Austin Chapman 2010 Trust (as a member of Jane Austin Chapman Management Company, L.C.), Frankston, Texas, Michael Austin Neill and Kathryn Neill Woods, as co-trustees; Jane Austin Chapman Children's Insurance Trust, Michael Austin Neill, as trustee (as a shareholder and as a member of Jane Austin Chapman Management Company, L.C.), and Jane Austin Chapman 2012 Trust, Frankston, Texas, Michael Austin Neill and Kathryn Neill Woods, as co-trustees; and JMC General Partner, L.L.C., Jeff Austin, III, member (as general partner of The Opal Group, LP), Jacksonville, Texas; to join the Austin/Chapman Family Control Group, a group acting in concert, to retain voting shares of Athens, TX Bancshares, Inc., and thereby indirectly retain voting shares of First State Bank, both of Athens, Texas.

In addition, Jessica Leigh Neill Swinnea, Tyler, Texas, and Austin Kyle Neill, Dallas, Texas; to join the Austin/Chapman Family Control Group, to acquire voting shares of Athens, TX Bancshares, Inc., and thereby indirectly acquire voting shares of First State Bank, both of Athens, Texas.

4. Jane Austin Chapman 2010 Trust (as a member of Jane Austin Chapman Management Company, L.C.), Frankston, Texas, Michael Austin Neill, Athens, Texas, and Kathryn Neill Woods, Fort Collins, Colorado, co-trustees; Jane Austin Chapman Children's Insurance Trust (as a member of Jane Austin Chapman Management Company, L.C.), Frankston, Texas, Michael Austin Neill, trustee; Michael Austin Neill (as trustee of various family trusts); and Kathryn Neill Woods (as trustee of various family trusts); as a group acting in concert, to retain voting shares of Jane Austin Chapman Limited Partnership, L.P., Frankston, Texas, and thereby indirectly retain voting shares of Austin Bancorp, Inc., and its subsidiary bank, Austin Bank, Texas National Association, both of Jacksonville, Texas; Athens, TX Bancshares, Inc., and its subsidiary bank, First State Bank, both of Athens, Texas; and Capital Bancorp, Inc., Jacinto City, Texas, and it subsidiary bank, Capital Bank, Houston, Texas.

Board of Governors of the Federal Reserve System.
Michele Taylor Fennell,
Associate Secretary of the Board.

[FR Doc. 2024-26968 Filed 11-18-24; 8:45 am]

BILLING CODE P